NATIONAL CREDIT UNION ADMINISTRATION

Sunshine Act; Notice of Agency Meeting

Time and Date: 10 a.m., Thursday, July 16, 2009.

Place: Board Room, 7th Floor, Room 7047, 1775 Duke Street, Alexandria, VA 22314-3428.

Status: Open.

Matters To Be Considered: 1. Proposed Rule—Parts 701 and 741 of NCUA's Rules and Regulations, National Credit Union Share Insurance Fund Premium and One Percent Deposit.

2. Final Rule—Parts 741, 748 and 749 of NCUA's Rules and Regulations, Credit Union Reporting.

3. Final Rule—Part 707 of NCUA's Rules and Regulations, Truth in Savings Act Disclosures.

4. Interest Rate Ceiling Determination under Section 107(5) of the Federal Credit Union Act.

5. Reprogramming of NCUA's Operating Budget for 2009.

6. Insurance Fund Report.

Recess: 11 a.m.

Time and Date: 11:15 a.m., Thursday, July 16, 2009.

Place: Board Room, 7th Floor, Room 7047, 1775 Duke Street, Alexandria, VA 22314-3428.

Status: Closed.

Matters To Be Considered:

1. Insurance Appeal. Closed pursuant to Exemption (6).

2. Part 703 of NCUA's Rules and Regulations, Pilot Program Request, Closed pursuant to Exemption (8).

3. Consideration of Supervisory Activities (7). Closed pursuant to some or all of the following: Exemptions (8) and (9)(A)(ii) and 9(B).

FOR FURTHER INFORMATION CONTACT: Mary Rupp, Secretary of the Board, Telephone: 703-518-6304.

Mary Rupp,
Board Secretary.

[FR Doc. E9-16687 Filed 7-9-09; 4:15 pm]

BILLING CODE 7535-01-P